FEDERAL ELECTION COMMISSION

Sunshine Act Meeting

AGENCY: Federal Election Commission.

Date & Time: Tuesday, November 7, 2000 at 10 a.m.

Place: 999 E Street, NW., Washington, DC.

Status: This meeting will be closed to the public.

Items to be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Date & Time: Thursday, November 9, 2000 at 10 a.m.

Place: 999 E Street, NW., Washington, DC. (Ninth Floor).

Status: This meeting will be open to the public.

Items to be Discussed: Correction and Approval of Minutes.

General Public Political Communications Coordinated with Candidates and Independent Expenditures: Draft Final Rules with Explanation and Justification.

Administrative Matters.

Person to Contact for Information: Mr. Ron Harris, Press Officer, Telephone: (202) 694-1220.

Mary W. Dove,
Acting Secretary of the Commission.

[FR Doc. 00-28161 Filed 10-30-00; 2:08 pm]

BILLING CODE 6715-01-M